ENVIRONMENTAL PROTECTION AGENCY

[ER-FRL-6663-5]

Environmental Impacts Statements; Notice of Availability

Responsible Agency: Office of Federal Activities, General Information (202) 564-7167 or http://www.epa.gov/compliance/nepa/.

Weekly receipt of Environmental Impact Statements.

Filed 05/09/2005 through 05/13/2005.

Pursuant to 40 CFR 1506.9.

EIS No. 20050191, Final EIS, AFS, ID, Meadows Slope Wildland Fire Protection Project, Proposes To Create and Maintain a Fuelbreak of Reduced Crown Fire Hazard, Payette National Forest, New Meadows Rangers District, Adams and Valley Counties, ID, Wait Period Ends: 06/20/2005, Contact: Sylvia Clark 208-347-0300.

EIS No. 20050192, Draft EIS, AFS, CA, Empire Vegetation Management Project, Reducing Fire Hazards, Harvesting of Trees Using Group-Selection (GS) and Individual Trees Selection (ITS) Methods, Mt. Hough Ranger District, Plumas National Forest, Plumas County, CA, Comment Period Ends: 07/05/2005, Contact: Merri Carol Martens 530-283-7689.

EIS No. 20050193, Final EIS, BIA, NV, Weber Dam Repair and Modification Project, Propose To Repair and Modify Dam, Walker River Paiute Tribe, Right-of-Way Grant and U.S. Army COE Section 404 Permit, Walker River Valley, Lyon and Mineral Counties, NV, Wait Period Ends: 06/20/2005, Contact: Amy Heuslein 602-379-6750.

EIS No. 20050194, Final EIS, AFS, PA, Martin Run Project, To Implement Management Direction as Outlined in Allegheny National Forest Plan, Bradford Ranger District, Allegheny National Forest, Warren and McKean Counties, PA, Wait Period Ends: 06/20/2005, Contact: Heather Luczak 814-723-5150.

EIS No. 20050195, Draft EIS, BLM, NV, North Valleys Rights-of-Way Projects, Proposed Construction and Operation of Water Transmission Pipelines, Washoe County, NV, Comment Period Ends: 07/20/2005, Contact: Terri Knutson 775-885-6156.

EIS No. 20050196, Draft EIS, NPS, UT, Burr Trail Modification Project, Proposed Road Modification Within Capitol Reef National Park, Garfield County, UT, Comment Period Ends: 07/20/2005, Contact: Chris Turk 303-969-2832.

EIS No. 20050197, Draft EIS, TVA, TN, Watts Bar Reservoir Land Management Plan, Update 1988 Plan To Reflect Changing Community Needs, Loudon, Meigs, Rhea and Roane Counties, TN, Comment Period Ends: 07/05/2005, Contact: Richard L. Toennisson 865-632-8517.

EIS No. 20050198, Draft EIS, AFS, WA, Growden Dam Sherman Creek Restoration Project, and Forest Plan Amendment #28, Implementation, Colville National Forest, Ferry County, WA, Comment Period Ends: 07/05/2005, Contact: Karen Honeycutt 509-684-7224.

EIS No. 20050199, Draft EIS, DOD, DC, Armed Forces Retirement Home (AFRH-W), Proposed Master Plan for Campus Located 3700 North Capitol Street, NW, AFRH Trust Fund, Washington, DC, Comment Period Ends: 07/05/2005, Contact: Craig Wallwork 202-730-3038.

Amended Notices

EIS No. 20050107, Draft EIS, AFS, IL, Shawnee National Forest Proposed Land and Resource Management Plan Revision, Implementation, Alexander, Gallatin, Hardin, Jackson, Johnson, Massac, Pope, Union and Williamson Counties, IL, Comment Period Ends: 06/20/2005, Contact: Stephen Hupe 618-253-7114. Revision of FR Notice Published on 03/18/2005: CEQ Comment Period Ending on 06/16/2005 Has Been Extended to 06/20/2005.

EIS No. 20050117, Draft EIS, BLM, NV, Emigrant Mine Project, Develop and Operate an Open Pit Mine, Construct a Waste Rock Disposal Facility, South of Carlin in Elko County, NV, Comment Period Ends: 06/24/2005, Contact: Tom Schmidt 775-753-0200. Revision of FR Notice Published on 03/25/05: CEQ Comment Period Ending 05/25/2005 has been Extended to 06/24/2005.

Dated: May 17, 2005.
Ken Mittelholtz,
Environmental Protection Specialist, Office of Federal Activities.

[FR Doc. 05-10110 Filed 5-19-05; 8:45 am]

BILLING CODE 6560-50-P